DEPARTMENT OF LABOR

Office of the Secretary

Submission for OMB Review; Comment Request

October 9, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for PWBA, Office of Management and Budget, Room 10235, Washington, DC 20503 ((202) 395-7316), within 30 days from the date of this publication in the Federal Register.

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: ERISA Technical Release 91-1.

OMB Number: 1210-0084.

Affected Public: Business or other for-profit, Individuals or households, and Not-for-profit institutions.

Frequency: On Occasion.

Estimated Time Per Response: 20 minutes preparation and 1.5 minutes distribution.

Number of Respondents: 52.

Number of Annual Responses: 66.

Total Burden Hours: 4,567.

Total Annualized Capital/Starup Costs: $0.

Total Annual Costs (operating/maintaining systems or purchasing services): $33,670.

Description: Section 101(e) of the Employee Retirement Income Security Act of 1974 (ERISA) sets forth certain notice requirements which must be satisfied before an employer may transfer excess assets from a defined benefit plan to a retiree health benefit account after satisfying the conditions set forth in section 420 of the Internal Revenue Code of 1986, as amended. The reporting requirements are intended to protect the rights of participants and beneficiaries by giving the Secretaries of Labor and the Treasury and each participant and beneficiary under the plan advanced notice of a transfer of plan assets from a defined benefit plan to a retiree health benefit account.

Type of Review: Extension of a currently approved collection.

Agency: Pension and Welfare Benefits Administration (PWBA).

Title: Disclosures by Insurers to General Account Policy-holders.

OMB Number: 1210-0114.

Affected Public: Business or other for-profit, Individuals or households, and Not-for-profit institutions.

Frequency: Annually.

Number of Respondents: 104.

Number of Annual Response: 123,500.

Total Burden Hours: 466,667.

Total Annualized Capital/Startup Costs: $0.

Total Annual Costs (operating/maintaining systems or purchasing services): $45,700.

Description: Section 1460 of the Small Business Job Protection Act of 1996 (Pub. L. 104-188) amended ERISA by adding a new section 401(c), which clarifies the application of ERISA to insurance company general accounts. New section 401(c) requires that certain steps are taken by insurance companies which offer and maintain policies for private sector employee benefit plans where the assets are held in the insurer's general account. The Department must meet a statutory mandate to ensure that the regulations issued are administratively feasible and protective of the interests and rights of the plan and its participants and beneficiaries. This information collection implements statutory prescribed disclosure obligations of the insurer in it annual reports and policies.

Ira L. Mills,
Department Clearance Officer.

[FR Doc. 02-26759 Filed 10-21-02; 8:45 am]

BILLING CODE 4510-29-M